DEPARTMENT OF JUSTICE

Antitrust Division

Notice Pursuant to the National Cooperative Research and Production Act of 1993; Telemanagement Forum

Notice is hereby given that, on September 16, 2014, pursuant to Section 6(a) of the National Cooperative Research and Production Act of 1993, 15 U.S.C. 4301 et seq. (“the Act”), Telemanagement Forum (“The Forum”) has filed written notifications simultaneously with the Attorney General and the Federal Trade Commission disclosing changes in its membership. The notifications were filed for the purpose of extending the Act's provisions limiting the recovery of antitrust plaintiffs to actual damages under specified circumstances. Specifically, the following parties have been added as members to this venture: NetYCE, Amsterdam, THE NETHERLANDS; Intense Technologies Limited, Secunderabad, INDIA; Enhancesys Innovations LLC, Cupertino, CA; Limtel Sp. z o.o., Olsztyn, POLAND; Vodafone India Limited, Mumbai, INDIA; SLA Mobile, Belfast, UNITED KINGDOM; Vasona Networks, Inc., Santa Clara, CA; Liberated Cloud Limited, Frome, UK; Intel Corporation, Santa Clara, CA; Basset AB, Sundysberg, SWEDEN; Unscrambl LLC, Atlanta, GA; Zain KSA, Riyadh, SAUDI ARABIA; Fiberblaze, New York, NY; BINARY OSS, Santiago, CHILE; PT Affia Andal Jasa Bismatamma (RSM AAJ ASSOCIATES), Jakarta, INDONESIA; Ni2, Montreal, CANADA; Archimu, Heverlee, BELGIUM; Nextel del Perú SA, Lima, PERU; GFI INFORMATIQUE, Saint-Ouen, FRANCE; CORRELOR TECHNOLOGIES PTE. LTD., Singapore, SINGAPORE; Bharat Broadband Network Limited, New Delhi, INDIA; Chongqing University of Posts & Telecommunications, Chongqing, PEOPLE'S REPUBLIC OF CHINA; Jisc Collections and Janet Limited, Didcot, UNITED KINGDOM; Ebizu Sdn. Bhd., Kuala Lumpur, MALAYSIA; Tracfone Wireless, Inc., Medley, FL; Skytree, San Jose, CA; Telenor Denmark, København, DENMARK; Thibera Consulting GmbH, Ingbert, GERMANY; Optulink Inc., Naperville, IL; Vitria Technology, Inc., Sunnyvale, CA; Moller & Company, Copenhagen, DENMARK; TBSP Engineering S.A., Athens, GREECE; M-net Telekommunikations GmbH, München Bayern, GERMANY; Smart Information Systems Gmbh, Vienna, AUSTRIA; BVG IT Services bvba, Mechelen, BELGIUM; Maxis Broadband Sdn Bhd, Kuala Lumpur, MALAYSIA; Semanticore Systems, Roodepoort, SOUTH AFRICA; uFONE, Islamabad, PAKISTAN; Jawwal, Ramallah, PALESTINE; edotco Group Sdn Bhd, Kuala Lumpur, MALAYSIA; Two Degrees Mobile Ltd., Auckland, NEW ZEALAND; and Korea Telecom, Seongnam City, REPUBLIC OF KOREA.

The following members have changed their names: Telekomunikacja Polska SA to Orange Polska, Warszawa, POLAND; Martin Dawes Systems Ltd. (MDS) to MDS, Warrington, UNITED KINGDOM; TIERONE OSS Technologies USA, Inc. to TIERONE, Inc., Reston, VA; Ooredoo (Former Qtel International) to Ooredoo Q.S.C., Doha, QATAR; JDSU Test & Measurement to JDSU, Eningen, GERMANY; Wataniya Telecom Maldives Private Limited to Ooredoo Maldives Pvt. Ltd., Hulhumale, MALDIVES; Oss Wave to DigitalWave, Gatineau, CANADA; HughesTelematics, Inc. to Verizon Telematics, Inc., Atlanta, GA; Cricket Communications to Cricket Wireless, San Diego, CA; ParStream, inc. to ParStream, Redwood City, CA; CenterNODE Limited to Bobbil, Cork, IRELAND; and Aria Systems, Inc. to Aria Systems Ltd., Reading, UNITED KINGDOM.

The following members have withdrawn as parties to this venture: Engineering IT, Pont St. Martin, ITALY; Applied Communication Sciences, Basking Ridge, NJ; Intelli Solutions SA, Athens, GREECE; Synopsis S.A., Lima, PERU; EE, Hertfordshire, UNITED KINGDOM; Romtelecom SA, Bucharest, ROMANIA; Moseco Group, Amman, JORDAN; Tele Greenland, Nuuk, GREENLAND; Booz & Company NA Inc., New York, NY; Wisdom Networks Co., Ltd., Tokyo, JAPAN; UnboundID Corp., Austin, TX; Computer Sciences Corporation, Wiesbaden, GERMANY; Telecom Personal Argentina, Ciudad Autónoma de Buenos Aires, ARGENTINA; ACG Research, Gilbert, AZ; Tellabs Operations, Inc., Naperville, IL; Vector Communications Ltd., Auckland, NEW ZEALAND; Defence Science and Technology Organisation, Edinburgh, AUSTRALIA; OGIS International, Inc., San Mateo, CA; HGTelekom, Reillanne, FRANCE; Renoir Consulting, Oxford, UNITED KINGDOM; Latin America Business Consulting Mexico, S.A. de C.V., Estado de México, MEXICO; IPSCAPE LTD, Warwickshire, UNITED KINGDOM; Sitronics Telecom Solutions Co. (Pvt.) Ltd., Punjab, PAKISTAN; VIVA Bahrain, Manama, BAHRIAN; ConceptWave Software, Ontario, CANADA; and Advanced Roaming & Clearing House (ARCH), Guangdong, PEOPLE'S REPUBLIC OF CHINA.

No other changes have been made in either the membership or planned activity of the group research project. Membership in this group research project remains open, and The Forum intends to file additional written notifications disclosing all changes in membership.

On October 21, 1988, Forum filed its original notification pursuant to Section 6(a) of the Act. The Department of Justice published a notice in the Federal Register pursuant to Section 6(b) of the Act on December 8, 1988 (53 FR 49615).

The last notification was filed with the Department on April 23, 2014. A notice was published in the Federal Register pursuant to Section 6(b) of the Act on May 16, 2014 (79 FR 28554).

Patricia A. Brink,
Director of Civil Enforcement, Antitrust Division.

[FR Doc. 2014-25136 Filed 10-21-14; 8:45 am]

BILLING CODE P